ENVIRONMENTAL PROTECTION AGENCY

[ER-FRL-6614-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-G65076-OK Rating LO, Quachita National Forest, An Amendment to the Land and Resource Management Plan, Implementation, Glover River, McCurtain County, OK.

Summary: EPA has no objection to the selection of the proposed action as the preferred alternative for the amended land and resource management plan. EPA is suggesting the inclusion of some addition information to strengthen the Final Statement.

ERP No. D-USN-K35041-CA Rating EC2, Naval Station (NAVSTA) San Diego Replacement Pier and Dredging Improvements, Construction, Dredging and Dredged Material Disposal, San Diego Naval Complex, San Diego, CA.

Summary: EPA expressed environmental concerns regarding dredging and dredged material disposal, impacts to aquatic resources, hazardous air pollutants, toxic substances, environmental justice, and mitigation measures.

ERP No. DR-AFS-K61145-CA Rating EC2, Programmatic EIS—Ansel Adams, John Muir and Dinkey Lakes Wildernesses, Proposed New Management Direction, Amending the Land and Resource Management Plans for the Inyo and Sierra National Forests, Implementation, Inyo, Madera, Mono and Fresno Counties, CA.

Summary: EPA raised continuing concerns regarding the RDEIS' failure to analyze potential cumulative impacts associated with production livestock grazing.

Final EISs

ERP No. F-COE-H36108-NB, Sand Creek Watershed Restoration Project, To Develop Environmental Restoration, City of Wahoo, Saunders County, NB.

Summary: EPA continued to have environmental concerns on three issues: (1) Lack of current data in the project area; (2) project need and alternative; and (3) insufficient analysis of cumulative impacts.

ERP No. F-COE-K36133-CA, Whitewater River Basin (Thousand Palms) Flood Control Project, Construction of Facilities to Provide Flood Protection, Coachella Valley, Riverside County, CA.

Summary: No formal comment letter was sent to the preparing agency.

ERP No. F-COE-K39060-CA, Upper Newport Bay Restoration Project, To Develop a Long-Term Management Plan to Control Sediment Deposition, Orange County, CA.

Summary: No formal comment letter was sent to the preparing agency.

Dated: December 26, 2000.
B. Katherine Biggs,
Associate Director, NEPA Compliance Division, Office of Federal Activities.

[FR Doc. 00-33368 Filed 12-28-00; 8:45 am]

BILLING CODE 6560-50-P